DEPARTMENT OF THE INTERIOR

Bureau of Land Management

[LLMTB07900 17XL1109AF L10100000 PH0000 LXSIANMS0000 MO# 4500104105]

Notice of Public Meeting; Western Montana Resource Advisory Council

AGENCY: Bureau of Land Management, Interior.

ACTION: Notice.

SUMMARY: In accordance with the Federal Land Policy and Management Act and the Federal Advisory Committee Act of 1972, the U.S. Department of the Interior, Bureau of Land Management (BLM) Western Montana Resource Advisory Council (RAC) will meet as indicated below.

DATES: The Western Montana Resource Advisory Council meeting will be held on March 16, 2017, in Butte, Montana. The meeting will begin at 9 a.m. in the BLM's Butte Field Office conference room. There will be a 30-minute public comment period starting at 11:30 a.m. The meeting will adjourn at 3 p.m.

ADDRESSES: The BLM's Butte Field Office is located at 106 N. Parkmont, Butte, MT 59701.

FOR FURTHER INFORMATION CONTACT: David Abrams, Western Montana Resource Advisory Council Coordinator, Butte Field Office, 106 North Parkmont, Butte, MT 59701, 406-533-7617, dabrams@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: This 15-member council advises the Secretary of the Interior, through the BLM, on a variety of issues associated with public land management in Montana. During this meeting, the council will discuss several topics, including updates from the BLM's Butte, Missoula, and Dillon field offices. All RAC meetings are open to the public. The public may present written comments to the RAC. The RAC meeting will also allow time for oral public comments. Depending on the number of persons who wish to comment and the amount of time available, the time for individual oral comments may be limited.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Richard M. Hotaling,
District Manager, Western Montana District.

[FR Doc. 2017-04569 Filed 3-7-17; 8:45 am]

BILLING CODE 4310-DN-P